INTERNATIONAL TRADE COMMISSION

[Inv. No. 337-TA-827]

Certain Portable Communication Devices; Institution of Investigation

AGENCY: U.S. International Trade Commission.

ACTION: Notice.

SUMMARY: Notice is hereby given that a complaint was filed with the U.S. International Trade Commission on December 2, 2011, under section 337 of the Tariff Act of 1930, as amended, 19 U.S.C. 1337, on behalf of Digitude Innovations LLC of Alexandria, Virginia. An amended complaint was filed on December 16, 2011. The amended complaint alleges violations of section 337 based upon the importation into the United States, the sale for importation, and the sale within the United States after importation of certain portable communication devices by reason of infringement of certain claims of U.S. Patent No. 5,926,636 (“the ’636 patent”); U.S. Patent No. 5,929,655 (“the ’655 patent”); U.S. Patent No. 6,208,879 (“the ’879 patent”); and U.S. Patent No. 6,456,841 (“the ’841 patent”). The amended complaint further alleges that an industry in the United States exists as required by subsection (a)(2) of section 337.

The complainant requests that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the amended complaint, the U.S. International Trade Commission, on January 12, 2012, Ordered That—

(1) Pursuant to subsection (b) of section 337 of the Tariff Act of 1930, as amended, an investigation be instituted to determine whether there is a violation of subsection (a)(1)(B) of section 337 in the importation into the United States, the sale for importation, or the sale within the United States after importation of certain portable communication devices that infringe one or more of claims 7-13 and 15 of the ’636 patent; claims 1-9 and 17-25 of the ’655 patent; claims 1-8 and 14-20 of the ’879 patent; and claims 1-5 of the ’841 patent, and whether an industry in the United States exists as required by subsection (a)(2) of section 337;

(2) For the purpose of the investigation so instituted, the following are hereby named as parties upon which this notice of investigation shall be served:

(a) The complainant is:

Digitude Innovations LLC, 601 King Street, Suite 404, Alexandria, VA 22314.

(b) The respondents are the following entities alleged to be in violation of section 337, and are the parties upon which the amended complaint is to be served:

Research In Motion Ltd., 295 Phillip Street, Waterloo, Ontario N2L 3W8, Canada.

Research In Motion Corp., 122 W. John Carpenter Parkway, Suite 430, Irving, TX 75039-2013.

HTC Corporation, 23 Xinghua Road, Taoyuan, 330, Taiwan.

HTC America, Inc., 13920 SE Eastgate Way, Suite 400, Bellevue, WA 98005.

LG Electronics, Inc., LG Twin Towers, 20, Yoido-dong, Youngdungpo-gu, Seoul, 157-721, South Korea.

LG Electronics U.S.A., Inc., 1000 Sylvan Ave., Englewood Cliffs, NJ 07632.

LG Electronics MobileComm U.S.A., Inc., 10101 Old Grove Road, San Diego, CA 92131.

Motorola Mobility Holdings, Inc., 600 N. U.S. Highway 45, Libertyville, IL 60048.

Samsung Electronics Co., Ltd, 1320-10, Seocho 2-dong Seocho-gu, Seoul, 137-857, South Korea.

Samsung Electronics America, Inc., 105 Challenger Rd., Ridgefield Park, NJ 07660.

Samsung Telecommunications America, LLC, 1301 East Lookout Drive, Richardson, TX 75082.

Sony Corporation, 1-7-1 Konan, Minato-ku, Tokyo 108-0075, Japan.

Sony Corporation of America, 550 Madison Avenue, New York, NY 10022-3211.

Sony Electronics, Inc., 16530 Via Esprillo, San Diego, CA 92127.

Sony Ericsson Mobile, Communications AB, Nya Vattentornet, Lund, 221 88, Sweden.

Sony Ericsson Mobile, Communications (USA) Inc., 7001 Development Drive, Research Triangle Park, NC 27709.

Amazon.com, Inc., 410 Terry Avenue North, Seattle, WA 98109-5210.

Nokia Corporation, Keilalahdentie 4, P.O. Box 226, FI-00045, Nokia Group, Espoo, Finland.

Nokia Inc., 6000 Connection Drive #MD2-2210, Irving, TX 75039.

Pantech & Curitel Communication, Inc., Peungwha Seocho Building, 1451-34, Seocho-Go, Seoul 137-070, South Korea.

Pantech Wireless, Inc., 5607 Glenridge Drive NE., Suite 500, Atlanta, GA 30342-7200.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

Issued: January 13, 2012.
By order of the Commission.
James R. Holbein,
Secretary to the Commission.

[FR Doc. 2012-984 Filed 1-18-12; 8:45 am]

BILLING CODE 7020-02-P